DEPARTMENT OF TRANSPORTATION

Pipeline and Hazardous Materials Safety Administration

[Docket No. PHMSA-2011-0273]

Pipeline Safety: Information Collection Activities

AGENCY: Pipeline and Hazardous Materials Safety Administration (PHMSA), DOT.

ACTION: Notice and request for comments.

SUMMARY: On August 1, 2011, in accordance with the Paperwork Reduction Act of 1995, PHMSA published a notice with request for comments in the Federal Register (76 FR 45904). The notice concerned several pipeline safety information collections that PHMSA will be submitting to the Office of Management and Budget (OMB) for renewal and one information collection that PHMSA intends to discontinue. PHMSA received no comments on the notice. PHMSA is now forwarding the information collection request to OMB and providing an additional 30 days for comments.

DATES: Interested persons are invited to submit comments to OMB on or before November 23, 2011.

ADDRESS: Send comments regarding the burden estimate, including suggestions for reducing the burden, directly to OMB, Office of Information and Regulatory Affairs, Attn: Desk Officer for the U.S. Department of Transportation (PHMSA), 725 17th Street, NW., Washington, DC 20503.

FOR FURTHER INFORMATION CONTACT: Angela Dow by telephone at 202-366-1246, by fax at 202-366-4566, or by mail at U.S. Department of Transportation, PHMSA, 1200 New Jersey Avenue, SE., PHP-30, Washington, DC 20590-0001.

SUPPLEMENTARY INFORMATION: Section 1320.8(d), Title 5, Code of Federal Regulations, requires PHMSA to provide interested members of the public and affected agencies an opportunity to comment on information collection and recordkeeping requests. This notice identifies several information collection requests that PHMSA will be submitting to OMB for renewal and one collection that PHMSA plans to discontinue. The following information is provided for each information collection: (1) Title of the information collection; (2) OMB control number; (3) Current expiration date; (4) Type of request; (5) Abstract of the information collection activity; (6) Description of affected public; (7) Estimate of total annual reporting and recordkeeping burden; and (8) Frequency of collection. Unless otherwise specified, PHMSA will request a three-year term of approval for each information collection activity. PHMSA plans to discontinue the following information collection:

Title: Pipeline Safety: Excess Flow Valves—Customer Notification.

OMB Control Number: 2137-0593.

Current Expiration Date: 1/31/2012 (To be discontinued).

Abstract: Pipeline operators are no longer required to provide notifications about excess flow valves to service line customers as described in 49 CFR 192.383.

Accordingly, PHMSA has decided to discontinue this collection.

PHMSA requests comments on the following information collections:

1. Title: Requirements for Liquefied Natural Gas (LNG) Facilities.

OMB Control Number: 2137-0048.

Current Expiration Date: 1/31/2012.

Abstract: Operators of liquefied natural gas facilities are required under 49 CFR Part 193 to maintain records, make reports, and provide information to PHMSA and state pipeline safety agencies concerning the operations of their facilities. The information aids Federal and state pipeline safety inspectors in conducting compliance inspections and investigating incidents.

Affected Public: Operators of liquefied natural gas facilities.

Annual Reporting and Recordkeeping Burden

Total Annual Responses: 101.

Total Annual Burden Hours: 12,120.

Frequency of Collection: On occasion.

2. Title: Recordkeeping for Natural Gas Pipeline Operators.

OMB Control Number: 2137-0049.

Current Expiration Date: 1/31/2012.

Abstract: Operators of gas pipelines are required per 49 CFR Part 192 to maintain records, make reports, and provide information to PHMSA and state pipeline safety agencies concerning the operations of their pipelines. The information aids Federal and state pipeline safety inspectors in conducting compliance inspections and investigating incidents.

Affected Public: Operators of natural gas pipeline systems.

Annual Reporting and Recordkeeping Burden

Total Annual Responses: 2,300.

Total Annual Burden Hours: 940,454.

Frequency of collection: On occasion.

3. Title: Customer-Owned Service Lines.

OMB Control Number: 2137-0594.

Current Expiration Date: 1/31/2012.

Abstract: Operators of gas service lines who do not maintain certain buried piping on behalf of their customers must provide notification about maintenance to those customers (49 CFR 192.16). Upon request, an operator must make documentation of compliance available to PHMSA or the appropriate state regulatory agency.

Affected Public: Natural gas pipeline operators.

Annual Reporting and Recordkeeping Burden

Total Annual Responses: 550,000.

Total Annual Burden Hours: 9,167.

Frequency of collection: On occasion.

4. Title: Pipeline Safety: Qualification of Pipeline Safety, Training.

OMB Control Number: 2137-0600.

Current Expiration Date: 2/29/2012.

Abstract: Pipeline operators are required to have continuing programs for qualifying and training personnel performing safety-sensitive functions on pipelines (49 CFR part 192, Subpart N and 49 CFR part 195, Subpart G). Operators must maintain records, make reports, and provide information to PHMSA and state pipeline safety agencies concerning these programs. The information aids Federal and state pipeline safety inspectors in conducting compliance inspections and investigating incidents.

Affected Public: Pipeline operators.

Annual Reporting and Recordkeeping Burden

Total Annual Responses: 22,300.

Total Annual Burden Hours: 466,667.

Frequency of collection: On occasion.

5. Title: Pipeline Safety: Report of Abandoned Underwater Pipelines.

OMB Control Number: 2137-0601.

Current Expiration Date: 2/29/2012.

Abstract: Pipeline operators are required to report certain information about abandoned underwater pipelines to PHMSA (49 CFR 195.59 and 192.727). The information aids Federal and state pipeline safety inspectors in conducting compliance inspections and investigating incidents.

Affected Public: Operators of underwater pipelines.

Annual Reporting and Recordkeeping Burden

Annual Responses: 10.

Annual Burden Hours: 60.

Frequency of collection: On occasion.

6. Title: Pipeline Safety: Integrity Management in High Consequence Areas for Operators with more than 500 Miles of Hazardous Liquid Pipelines.

OMB Control Number: 2137-0604.

Current Expiration Date: 1/31/2012.

Abstract: Hazardous liquid operators with pipelines in high consequence areas (i.e., commercially navigable waterways, high population areas, other populated areas, and unusually sensitive areas as defined in 49 CFR 195.450) are subject to certain information collection requirements relative to the Integrity Management Program provisions of 49 CFR 195.452. This collection, which applies to operators of more than 500 miles of hazardous liquid pipelines, is being merged with the information collection under OMB Control Number 2137-0605 which will now cover all hazardous liquid operators with pipelines in high consequence areas.

7. Title: Pipeline Safety: Integrity Management in High Consequence Areas for Operators of Hazardous Liquid Pipelines. (New Title).

OMB Control Number: 2137-0605.

Current Expiration Date: 1/31/2012.

Abstract: Hazardous liquid operators with pipelines in high consequence areas (i.e., commercially navigable waterways, high population areas, other populated areas, and unusually sensitive areas as defined in 49 CFR 195.450) are subject to certain information collection requirements relative to the Integrity Management Program provisions of 49 CFR 195.452.

Affected Public: All pipeline operators of hazardous liquid pipelines located in high consequence areas.

Annual Reporting and Recordkeeping Burden

Annual Responses: 203.

Annual Burden Hours: 325,470.

Frequency of collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on October 17, 2011.
Linda Daugherty,
Deputy Associate Administrator for Policy and Programs.

[FR Doc. 2011-27369 Filed 10-21-11; 8:45 am]

BILLING CODE 4910-60-P